DEPARTMENT OF TRANSPORTATION

Federal Motor Carrier Safety Administration

[Docket No. FMCSA-2014-0303]

Qualification of Drivers; Exemption Applications; Vision

AGENCY: Federal Motor Carrier Safety Administration (FMCSA), DOT.

ACTION: Notice of applications for exemptions, request for comments.

SUMMARY: FMCSA announces receipt of applications from 21 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before April 17, 2015. All comments will be investigated by FMCSA. The exemptions will be issued the day after the comment period closes.

ADDRESSES: You may submit comments bearing the Federal Docket Management System (FDMS) Docket No. FMCSA-2014-0303 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Charles A. Horan, III, Director, Carrier, Driver and Vehicle Safety Standards, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 21 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Neal S. Anderson

Mr. Anderson, 53, has had Best disease in his right eye since childhood. The visual acuity in his right eye is 20/100, and in his left eye, 20/20. Following an examination in 2014, his optometrist stated, “There are no visual changes that warrant new restrictions to his current commercial driver's license.” Mr. Anderson reported that he has driven straight trucks for 37 years, accumulating 296,000 miles, and tractor-trailer combinations for 2 years, accumulating 15,000 miles. He holds a Class A CDL from Minnesota. His driving record for the last 3 years shows no crashes and no convictions for moving violations in a CMV.

Robert D. Arkwright

Mr. Arkwright, 43, has had a toxoplasmosis scar in his right eye since birth. The visual acuity in his right eye is 20/60, and in his left eye, 20/20. Following an examination in 2015, his optometrist stated, “It is my opinion that Mr. Arkwright has sufficient vision to perform the driving tasks required to operate a commercial vehicle.” Mr. Arkwright reported that he has driven straight trucks for 3 years, accumulating 225,000 miles, and tractor-trailer combinations for 17 years, accumulating 2.02 million miles. He holds an operator's license from Mississippi. His driving record for the last 3 years shows no crashes and no convictions for moving violations in a CMV.

Charles D. Ashworth Jr.

Mr. Ashworth, 52, has had a corneal scar in his right eye since childhood. The visual acuity in his right eye is 20/80, and in his left eye, 20/20. Following an examination in 2014, his optometrist stated, “I certify that in my medical opinion, Mr. Ashworth has sufficient vision to perform the driving task required to operate a commercial vehicle.” Mr. Ashworth reported that he has driven straight trucks for 10 years, accumulating 350,000 miles, and tractor-trailer combinations for 20 years, accumulating 2.7 million miles. He holds a Class DA CDL from Kentucky. His driving record for the last 3 years shows no crashes and one conviction for a moving violation in a CMV; he failed to obey a traffic control device.

Randy A. Cimei

Mr. Cimei, 57, has a hemorrhage and retinal detachment in his right eye due to a traumatic incident in 2009. The visual acuity in his right eye is hand motion, and in his left eye, 20/15. Following an examination in 2015, his ophthalmologist stated, “In my medical opinion he has sufficient vision to perform the driving tasks required to operate a commercial vehicle.” Mr. Cimei reported that he has driven straight trucks for 26 years, accumulating 260,000 miles, and tractor-trailer combinations for 26 years, accumulating 5,200 miles. He holds a Class A CDL from Illinois. His driving record for the last 3 years shows no crashes and no convictions for moving violations in a CMV.

Ronald J. Gruszecki

Mr. Gruszecki, 59, has had amblyopia in his right eye since childhood. The visual acuity in his right eye is 20/100, and in his left eye, 20/20. Following an examination in 2014, his ophthalmologist stated, “Based on the vision testing Ronald should be able to perform the tasks required for his commercial license.” Mr. Gruszecki reported that he has driven straight trucks for 28 years, accumulating 1.26 million miles. He holds an operator's license from Illinois. His driving record for the last 3 years shows no crashes and no convictions for moving violations in a CMV.

Gerald L. Harper

Mr. Harper, 66, has a displaced pupil in his right eye due to a traumatic incident during childhood. The visual acuity in his right eye is 20/50, and in his left eye, 20/20. Following an examination in 2014, his optometrist stated, “In my medical opinion Mr. Harper has sufficient vision to adequately perform the tasks necessary to operate a commercial vehicle at this time.” Mr. Harper reported that he has driven straight trucks for 2 years, accumulating 16,000 miles, and tractor-trailer combinations for 31 years, accumulating 3.1 million miles. He holds a Class A CDL from Missouri. His driving record for the last 3 years shows no crashes and no convictions for moving violations in a CMV.

Alan L. Helfer, Sr.

Mr. Helfer, 50, has had a cataract with amblyopia in his left eye since birth. The visual acuity in his right eye is 20/20, and in his left eye, 20/1000. Following an examination in 2014, his optometrist stated, “I certify that in my medical opinion, patient has sufficient vision to perform the driving tasks required to operate a commercial vehicle.” Mr. Helfer reported that he has driven tractor-trailer combinations for 24 years, accumulating 1.44 million miles. He holds a Class AM CDL from Illinois. His driving record for the last 3 years shows no crashes and no convictions for moving violations in a CMV.

Steven R. Jones

Mr. Jones, 59, has had macular drusen in his left eye since 2005. The visual acuity in his right eye is 20/20, and in his left eye, 20/100. Following an examination in 2014, his optometrist stated, “RE: Commercial Driver's License . . . In my medical opinion, I believe Steven can safely operate a motor vehicle. I am encouraged that he has already driven safely for over 10 years with his current state of visual ability.” Mr. Jones reported that he has driven straight trucks for 22 years, accumulating 514,800 miles. He holds a Class A CDL from Kansas. His driving record for the last 3 years shows no crashes and no convictions for moving violations in a CMV.

William F. Laforce

Mr. Laforce, 49, has had esotropia and amblyopia in his left eye since birth. The visual acuity in his right eye is 20/20, and in his left eye, 20/50. Following an examination in 2014, his optometrist stated, “Has sufficient vision to perform daily tasks to operate a commercial vehicle.” Mr. Laforce reported that he has driven tractor-trailer combinations for three years, accumulating 63,000 miles. He holds a Class A CDL from Vermont. His driving record for the last 3 years shows no crashes and no convictions for moving violations in a CMV.

Robert N. Lewis

Mr. Lewis, 36, has had a retinal detachment in his right eye since 2008. The visual acuity in his right eye is no light perception, and in his left eye, 20/20. Following an examination in 2014, his ophthalmologist certified that, in his medical opinion, Mr. Lewis has sufficient vision to perform the driving tasks required to operate a commercial vehicle. Mr. Lewis reported that he has driven straight trucks for 2.7 years, accumulating 3,200 miles. He holds an operator's license from Ohio. His driving record for the last 3 years shows no crashes and no convictions for moving violations in a CMV.

Ryan T. McKinney

Mr. McKinney, 25, has had amblyopia in his left eye since birth. The visual acuity in his right eye is 20/20, and in his left eye, 20/400. Following an examination in 2014, his optometrist stated, “Ryan has 20/20 vision binocular and has full field of vision in both eyes. This condition has been present since birth. I see no reason why Ryan McKinney should not be allowed to drive a commercial vehicle on the interstate.” Mr. McKinney reported that he has driven straight trucks for one year, accumulating 1,000 miles, and tractor-trailer combinations for 18 months, accumulating 130,000 miles. He holds a Class A CDL from Tennessee. His driving record for the last 3 years shows no crashes and no convictions for moving violations in a CMV.

Freeman A. Miller

Mr. Miller, 67, has had refractive amblyopia in his right eye since childhood. The visual acuity in his right eye is 20/100, and in his left eye, 20/20. Following an examination in 2014, his optometrist stated, “In my medical opinion, I see no reason visually that he could not operate a commercial vehicle.” Mr. Miller reported that he has driven straight trucks for 17 years, accumulating 799,000 miles, and tractor-trailer combinations for 22 years, accumulating 1.98 million miles. He holds a Class A CDL from Ohio. His driving record for the last 3 years shows no crashes and no convictions for moving violations in a CMV.

Larry G. Murray

Mr. Murray, 67, has complete loss of vision in his left eye due to a traumatic incident in 2002. The visual acuity in his right eye is 20/25, and in his left eye, no light perception. Following an examination in 2014, his optometrist stated, “In my opinion patient has sufficient vision to perform the driving tasks required to operate a commercial vehicle.” Mr. Murray reported that he has driven tractor-trailer combinations for 40 years, accumulating 432,000 miles. He holds a Class A CDL from Louisiana. His driving record for the last 3 years shows no crashes and no convictions for moving violations in a CMV.

Thomas W. Oberschlake

Mr. Oberschlake, 50, has had amblyopia in his right eye since childhood. The visual acuity in his right eye is 20/70, and in his left eye, 20/20. Following an examination in 2014, his ophthalmologist certified that, in his medical opinion, Mr. Oberschlake has sufficient vision to perform the driving tasks required to operate a commercial vehicle. Mr. Oberschlake reported that he has driven straight trucks for 30 years, accumulating 45,000 miles. He holds an operator's license from Ohio. His driving record for the last 3 years shows no crashes and no convictions for moving violations in a CMV.

Dennis R. Ohl

Mr. Ohl, 49, has had refractive amblyopia in his right eye since birth. The visual acuity in his right eye is 20/50, and in his left eye, 20/20. Following an examination in 2014, his optometrist stated, “In general, based on his current visual status, I believe Dennis to be capable of safely operating a commercial vehicle.” Mr. Ohl reported that he has driven straight trucks for 7.5 years, accumulating 172,500 miles. He holds an operator's license from Missouri. His driving record for the last 3 years shows no crashes and no convictions for moving violations in a CMV.

J.W. Peebles

Mr. Peebles, 65, has had complete loss of vision due to a choroidal melanoma in his right eye since 2014. The visual acuity in his right eye is no light perception, and in his left eye, 20/20. Following an examination in 2014, his ophthalmologist stated, “This vision in his left eye is 20/20 with and without correction . . . Based on my exam and the Goldman visual field, Mr. Peebles fulfills the driving tasks required to operate a commercial vehicle.” Mr. Peebles reported that he has driven tractor-trailer combinations for 30 years, accumulating 468,500 miles. He holds a Class AM CDL from Tennessee. His driving record for the last 3 years shows no crashes and no convictions for moving violations in a CMV.

Craig C. Perrotta

Mr. Perrotta, 56, has had maculopathy associated with chronic central serous retinopathy in his left eye since 2007. The visual acuity in his right eye is 20/20, and in his left eye, 20/400. Following an examination in 2014, his optometrist stated, “It is in my medical opinion that Mr. Perrotta's visual system is capable of performing the designated driving tasks required to operate a commercial vehicle, and has been doing so without incident for over 10 years.” Mr. Perrotta reported that he has driven straight trucks for 5.5 years, accumulating 184,800 miles. He holds a Class B CDL from Massachusetts. His driving record for the last 3 years shows no crashes and no convictions for moving violations in a CMV.

Raymond W. Pitts

Mr. Pitts, 67, has had a retinal detachment in his right eye since 2010. The visual acuity in his right eye is no light perception, and in his left eye, 20/20. Following an examination in 2014, his optometrist stated, “In my medical opinion, Mr. Pitts has sufficient vision to perform the driving tasks required to operate a commercial vehicle.” Mr. Pitts reported that he has driven tractor-trailer combinations for 40 years, accumulating four million miles. He holds a Class A CDL from Florida. His driving record for the last 3 years shows no crashes and no convictions for moving violations in a CMV.

Jeffrey A. Porter

Mr. Porter, 56, has had hyperopia with amblyopia in his left eye since childhood. The visual acuity in his right eye is 20/20, and in his left eye, 20/400. Following an examination in 2014, his optometrist stated, “R [sic] eye simple hyperopia L [sic] eye hyperopia w [sic] amblyopia secondary to surgical correction for an eye turn as a child, patient is not monocular . . . Patient is able to operate a commercial vehicle.” Mr. Porter reported that he has driven straight trucks for 8 years, accumulating 160,000 miles. He holds a Class D CDL from Connecticut. His driving record for the last 3 years shows no crashes and no convictions for moving violations in a CMV.

Marty J. Prouty

Mr. Prouty, 55, has had a retinal detachment and a cataract in his left eye since birth. The visual acuity in his right eye is 20/20, and in his left eye, counting fingers. Following an examination in 2014, his ophthalmologist stated, “In my medical opinion, he has sufficient vision to operate a commercial motor vehicle.” Mr. Prouty reported that he has driven straight trucks for 20 years, accumulating 300,000 miles, tractor-trailer combinations for 38 years, accumulating 760,000 miles, and buses for one year, accumulating 1,000 miles. He holds a Class A CDL from Iowa. His driving record for the last 3 years shows one crash, for which he was cited for following too closely.

Daniel A. Rau

Mr. Rau, 54, has a retinal tear and calcification of cornea secondary to failed penetrating keratoplasty in his left eye due to a traumatic incident in 1986. The visual acuity in his right eye is 20/20, and in his left eye, no light perception. Following an examination in 2014, his ophthalmologist stated, “I certify that in my medical opinion Mr. Rau has sufficient vision with correction to perform driving tasks required to operate commercial vehicles.” Mr. Rau reported that he has driven straight trucks for 33 years, accumulating 907,500 miles, and tractor-trailer combinations for 30 years, accumulating 2.63 million miles. He holds a Class A CDL from New Jersey. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0303 in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2014-0303 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Dated: March 11, 2015.
Larry W. Minor,
Associate Administrator for Policy.

[FR Doc. 2015-06178 Filed 3-17-15; 8:45 am]

BILLING CODE 4910-EX-PA18MR3.